DEPARTMENT OF ENERGY

Federal Energy Regulatory Commission

[Docket No. RP01-350-002]

Colorado Interstate Gas Company; Notice of Compliance Filing

November 20, 2001.

Take notice that on November 15, 2001, Colorado Interstate Gas Company (CIG) tendered for filing certain statements and schedules initially filed in CIG's general rate proceeding in the referenced docket. CIG states that as required by section 154.311(a); the submitted statements and schedules have been updated with actual data through September 30, 2001.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-29417 Filed 11-26-01; 8:45 am]

BILLING CODE 6717-01-P